DEPARTMENT OF COMMERCE

National Oceanic and Atmospheric Administration

RIN 0648-XU46

Gulf of Mexico Fishery Management Council; Public Meetings

AGENCY: National Marine Fisheries Service (NMFS), National Oceanic and Atmospheric Administration (NOAA), Commerce.

ACTION: Notice of a public meeting.

SUMMARY: The Gulf of Mexico Fishery Management Council (Council) will convene its Law Enforcement Advisory Panel.

DATES: The meeting will convene at 1:30 p.m. on Tuesday, March 9, 2010 and conclude no later than 5 p.m.

ADDRESSES: The meeting will be held at the Perdido Beach Resort, 27200 Perdido Beach Blvd., Orange Beach, AL 36561.

Council address: Gulf of Mexico Fishery Management Council, 2203 North Lois Avenue, Suite 1100, Tampa, FL 33607.

FOR FURTHER INFORMATION CONTACT: Dr. Richard Leard, Deputy Executive Director, Gulf of Mexico Fishery Management Council; telephone: (813) 348-1630.

SUPPLEMENTARY INFORMATION: The Council will convene the Law Enforcement Advisory Panel to consider the use of catch shares as a fishery management tool and the law enforcement implications. The Law Enforcement Advisory Panel will also review a recently completed Red Snapper Regulatory Amendment and an Options Paper for Amendment 32 to the Reef Fish Fishery Management Plan that addresses gag and red grouper. The Law Enforcement Advisory Panel will also review the current action schedule and the status of amendments and other regulatory actions. Finally, the Law Enforcement Advisory Panel will discuss the use of fish traps in federal waters.

The Law Enforcement Advisory Panel consists of principal law enforcement officers in each of the Gulf States, as well as NOAA Law Enforcement, U.S. Fish and Wildlife Service (FWS), the U.S. Coast Guard, and the NOAA General Counsel for Law Enforcement. A copy of the agenda and related materials can be obtained by calling the Council office at (813) 348-1630.

Although other non-emergency issues not on the agendas may come before the Law Enforcement Advisory Panel for discussion, in accordance with the Magnuson-Stevens Fishery Conservation and Management Act (Magnuson-Stevens Act), those issues may not be the subject of formal action during this meeting. Actions of the Law Enforcement Advisory Panel will be restricted to those issues specifically identified in the agendas and any issues arising after publication of this notice that require emergency action under Section 305(c) of the Magnuson-Stevens Act, provided the public has been notified of the Council's intent to take action to address the emergency.

Special Accommodations

These meetings are physically accessible to people with disabilities. Requests for sign language interpretation or other auxiliary aids should be directed to Tina O'Hern at the Council (see ADDRESSES) 5 working days prior to the meeting.

Dated: February 16, 2010.
William D. Chappell,
Acting Director, Office of Sustainable Fisheries, National Marine Fisheries Service.

[FR Doc. 2010-3209 Filed 2-18-10; 8:45 am]

BILLING CODE 3510-22-S